NUCLEAR REGULATORY COMMISSION

[NRC-2021-0168]

Monthly Notice Applications and Amendments to Facility Operating Licenses and Combined Licenses Involving No Significant Hazards Considerations

AGENCY: Nuclear Regulatory Commission.

ACTION: Monthly notice.

SUMMARY: Pursuant to section 189.a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person. This monthly notice includes all amendments issued, or proposed to be issued, from July 23, 2021, to August 19, 2021. The last monthly notice was published on August 10, 2021.

DATES: Comments must be filed by October 7, 2021. A request for a hearing or petitions for leave to intervene must be filed by November 8, 2021.

ADDRESSES: You may submit comments by any of the following methods; however, the NRC encourages electronic comment submission through the Federal Rulemaking website:

• Federal Rulemaking Website: Go to https://www.regulations.gov and search for Docket ID NRC-2021-0168. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Kay Goldstein, Office of Nuclear Reactor Regulation, U.S. Nuclear Regulatory Commission, Washington, DC 20555-0001, telephone: 301-415-1506, email: Kay.Goldstein@nrc.gov.

SUPPLEMENTARY INFORMATION:

I. Obtaining Information and Submitting Comments

A. Obtaining Information

Please refer to Docket ID NRC-2021-0168, facility name, unit number(s), docket number(s), application date, and subject when contacting the NRC about the availability of information for this action. You may obtain publicly available information related to this action by any of the following methods:

• Federal Rulemaking Website: Go to https://www.regulations.gov and search for Docket ID NRC-2021-0168.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• Attention: The PDR, where you may examine and order copies of public documents, is currently closed. You may submit your request to the PDR via email at pdr.resource@nrc.gov or call 1-800-397-4209 or 301-415-4737, between 8:00 a.m. and 4:00 p.m. (ET), Monday through Friday, except Federal holidays.

B. Submitting Comments

The NRC encourages electronic comment submission through the Federal Rulemaking website (https://www.regulations.gov). Please include Docket ID NRC-2021-0168, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown below, the Commission finds that the licensees' analyses provided, consistent with section 50.91 of title 10 of the Code of Federal Regulations (10 CFR), are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any persons (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. The NRC's regulations are accessible electronically from the NRC Library on the NRC's website at https://www.nrc.gov/reading-rm/doc-collections/cfr/. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right to be made a party to the proceeding; (3) the nature and extent of the petitioner's property, financial, or other interest in the proceeding; and (4) the possible effect of any decision or order which may be entered in the proceeding on the petitioner's interest.

In accordance with 10 CFR 2.309(f), the petition must also set forth the specific contentions that the petitioner seeks to have litigated in the proceeding. Each contention must consist of a specific statement of the issue of law or fact to be raised or controverted. In addition, the petitioner must provide a brief explanation of the bases for the contention and a concise statement of the alleged facts or expert opinion that support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one that, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of NSHC, the Commission will make a final determination on the issue of NSHC. The final determination will serve to establish when the hearing is held. If the final determination is that the amendment request involves NSHC, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally recognized Indian Tribe, or agency thereof does not need to address the standing requirements in 10 CFR 2.309(d) if the facility is located within its boundaries. Alternatively, a State, local governmental body, Federally recognized Indian Tribe, or agency thereof may participate as a non-party under 10 CFR 2.315(c).

If a petition is submitted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as discussed below, is granted. Detailed guidance on electronic submissions is located in the Guidance for Electronic Submissions to the NRC (ADAMS Accession No. ML13031A056) and on the NRC website at https://www.nrc.gov/site-help/e-submittals.html.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system timestamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as described above, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Request(s)
Arizona Public Service Company, et al; Palo Verde Nuclear Generating Station, Units 1, 2, and 3; Maricopa County, AZ
Docket No(s) | 50-528, 50-529, 50-530.
Application date | July 29, 2021.
ADAMS Accession No | ML21210A310.
Location in Application of NSHC | Pages 3-5 of the Enclosure.
Brief Description of Amendment(s) | The amendments would revise the technical specifications (TSs) by making various administrative changes to the TSs that remove no longer applicable information resulting from the completion of the degraded and loss of voltage relay modifications approved by the NRC in License Amendment No. 201 (ADAMS Accession No. ML17090A164), and to correct a typographical error on the footer of TS page 3.7.5-4.
Proposed Determination | NSHC.
Name of Attorney for Licensee, Mailing Address | Esther K. Andrews, Senior Counsel, Pinnacle West Capital Corporation, 500 N 5th Street, MS 8695, Phoenix, AZ 85004.
NRC Project Manager, Telephone Number | Siva Lingam, 301-415-1564.
Entergy Louisiana, LLC, and Entergy Operations, Inc.; River Bend Station, Unit 1; West Feliciana Parish, LA
Docket No(s) | 50-458.
Application date | June 15, 2021.
ADAMS Accession No | ML21167A214.
Location in Application of NSHC | Pages 6-8 of the Enclosure.
Brief Description of Amendment(s) | The proposed amendment would add a license condition concerning the receipt, possession, and use of byproduct materials, such that River Bend Station, Unit 1, would be enabled to receive and use radioactive samples and equipment contaminated with low levels of radioactive material from the other specified Entergy facilities.
Proposed Determination | NSHC.
Name of Attorney for Licensee, Mailing Address | Anna Vinson Jones, Senior Counsel, Entergy Services, Inc., 101 Constitution Avenue NW, Suite 200 East, Washington, DC 20001.
NRC Project Manager, Telephone Number | Jason Drake, 301-415-8378.
Entergy Nuclear Operations, Inc.; Palisades Nuclear Plant; Van Buren County, MI
Docket No(s) | 50-255.
Application date | June 1, 2021.
ADAMS Accession No | ML21152A108 (Package).
Location in Application of NSHC | Pages 100-104 of Enclosure.
Brief Description of Amendment(s) | The proposed license amendment would revise the Palisades Nuclear Plant Renewed Facility Operating License for Appendix A, Technical Specifications, and Appendix B, Environmental Protection Plan. The proposed changes are consistent with the permanent cessation of operations and permanent removal of fuel from the reactor vessel.
Proposed Determination | NSHC.
Name of Attorney for Licensee, Mailing Address | Anna Vinson Jones, Senior Counsel, Entergy Services, Inc., 101 Constitution Avenue NW, Suite 200 East, Washington, DC 20001.
NRC Project Manager, Telephone Number | Scott Wall, 301-415-2855.
Entergy Operations, Inc.; Waterford Steam Electric Station, Unit 3; St. Charles Parish, LA
Docket No(s) | 50-382.
Application date | May 28, 2021.
ADAMS Accession No | ML21148A104.
Location in Application of NSHC | Pages 4-6 of the Enclosure.
Brief Description of Amendment(s) | The proposed amendment would revise the Waterford Steam Electric Station, Unit 3, technical specifications to adopt Technical Specification Task Force (TSTF) Traveler TSTF-563, “Revise Instrument Testing Definitions to Incorporate the Surveillance Frequency Control Program,” Revision 0.
Proposed Determination | NSHC.
Name of Attorney for Licensee, Mailing Address | Anna Vinson Jones, Senior Counsel, Entergy Services, Inc., 101 Constitution Avenue NW, Suite 200 East, Washington, DC 20001.
NRC Project Manager, Telephone Number | Jason Drake, 301-415-8378.
Entergy Operations, Inc.; Waterford Steam Electric Station, Unit 3; St. Charles Parish, LA
Docket No(s) | 50-382.
Application date | June 24, 2021.
ADAMS Accession No | ML21175A362.
Location in Application of NSHC | Pages 3-5 of the Enclosure.
Brief Description of Amendment(s) | The proposed amendment would adopt Technical Specifications Task Force (TSTF) Traveler TSTF-569, “Revise Response Time Testing Definition,” Revision 2, which is an approved change to the Improved Standard Technical Specifications for incorporation into the Waterford Steam Electric Station, Unit 3, technical specifications.
Proposed Determination | NSHC.
Name of Attorney for Licensee, Mailing Address | Anna Vinson Jones, Senior Counsel, Entergy Services, Inc., 101 Constitution Avenue NW, Suite 200 East, Washington, DC 20001.
NRC Project Manager, Telephone Number | Jason Drake, 301-415-8378.
Exelon Generation Company, LLC; Braidwood Station, Units 1 and 2, Will County, IL; Byron Station, Unit 1 and 2, Ogle County, IL; Exelon Generation Company, LLC; Calvert Cliffs Nuclear Power Plant, Units 1 and 2; Calvert County, MD; Exelon Generation Company, LLC; Clinton Power Station, Unit No. 1; DeWitt County, IL; Exelon Generation Company, LLC; Dresden Nuclear Power Station, Units 2 and 3; Grundy County, IL; Exelon FitzPatrick, LLC and Exelon Generation Company, LLC; James A FitzPatrick Nuclear Power Plant; Oswego County, NY; Exelon Generation Company, LLC; LaSalle County Station, Units 1 and 2; LaSalle County, IL; Exelon Generation Company, LLC; Limerick Generating Station, Units 1 and 2; Montgomery County, PA; Nine Mile Point Nuclear Station, LLC and Exelon Generation Company, LLC; Nine Mile Point Nuclear Station, Unit 2; Oswego County, NY; Exelon Generation Company, LLC; Peach Bottom Atomic Power Station, Units 2 and 3; York County, PA; Exelon Generation Company, LLC; Quad Cities Nuclear Power Station, Units 1 and 2; Rock Island County, IL; R. E. Ginna Nuclear Power Plant, LLC and Exelon Generation Company, LLC; R. E. Ginna Nuclear Power Plant; Wayne County, NY
Docket No(s) | 50-456, 50-457, 50-454, 50-455, 50-317, 50-318, 50-461, 50-237, 50-249, 50-333, 50-373, 50-374, 50-352, 50-353, 50-410, 50-277, 50-278, 50-254, 50-265, 50-244.
Application date | June 30, 2021.
ADAMS Accession No | ML21181A180.
Location in Application of NSHC | Pages 2-4 of Attachment 1.
Brief Description of Amendment(s) | The proposed amendments would revise the technical specifications (TSs) for each facility based on Technical Specification Task Force (TSTF) traveler TSTF-554, Revision 1, “Revise Reactor Coolant Leakage Requirements” (ADAMS Accession No. ML20016A233). The proposed amendments would also make other administrative changes to the TSs.
Proposed Determination | NSHC.
Name of Attorney for Licensee, Mailing Address | Tamra Domeyer, Associate General Counsel, Exelon Generation Company, LLC, 4300 Winfield Road, Warrenville, IL 60555.
NRC Project Manager, Telephone Number | Blake Purnell, 301-415-1380.
Exelon Generation Company, LLC; Peach Bottom Atomic Power Station, Units 2 and 3; York County, PA
Docket No(s) | 50-277, 50-278.
Application date | April 29, 2021.
ADAMS Accession No | ML21119A141.
Location in Application of NSHC | Page 15 of Attachment 1; Section 4.3.
Brief Description of Amendment(s) | This submittal requests changes to the Peach Bottom Atomic Power Station, Units 2 and 3, technical specification Administrative Controls Section 5.5.7, “Ventilation Filter Testing Program (VFTP),” to change the frequency for performing certain testing requirements from 12 months as currently specified to 24 months. The VFTP establishes the required testing and testing frequency of Engineered Safety Feature filter ventilation systems.
Proposed Determination | NSHC.
Name of Attorney for Licensee, Mailing Address | Tamra Domeyer, Associate General Counsel, Exelon Generation Company, LLC, 4300 Winfield Road, Warrenville, IL 60555.
NRC Project Manager, Telephone Number | Jason Paige, 301-415-1474.
NextEra Energy Duane Arnold, LLC; Duane Arnold Energy Center; Linn County, IA
Docket No(s) | 50-331.
Application date | June 28, 2021.
ADAMS Accession No | ML21179A286.
Location in Application of NSHC | Pages 13-14 of the Enclosure.
Brief Description of Amendment(s) | The proposed amendment would revise the Duane Arnold Emergency Plan and associated Emergency Action Level scheme to implement an Independent Spent Fuel Storage Installation (ISFSI) Only Emergency Plan that will reflect the movement of all spent fuel into dry storage within the onsite ISFSI. The proposed license amendment would not be implemented until after the licensee provides notification to the U.S. Nuclear Regulatory Commission that all spent nuclear fuel has been transferred out of the spent fuel pool and placed within the ISFSI, which is expected to occur in 2022.
Proposed Determination | NSHC.
Name of Attorney for Licensee, Mailing Address | Steven Hamrick, Managing Attorney—Nuclear, Florida Power and Light Company, P.O. Box 14000, Juno Beach, FL 33408-0420.
NRC Project Manager, Telephone Number | Marlayna Doell, 301-415-3178.
NextEra Energy Duane Arnold, LLC; Duane Arnold Energy Center; Linn County, IA
Docket No(s) | 50-331.
Application date | June 3, 2021.
ADAMS Accession No | ML21167A186.
Location in Application of NSHC | Pages 4-5 of Enclosure 1.
Brief Description of Amendment(s) | The proposed amendment would revise the Duane Arnold Independent Spent Fuel Storage Installation (ISFSI) Physical Security Plan, as well as implement a proposed revision to the existing physical security license condition in the renewed facility operating license. The updated Physical Security Plan will relate solely to the Duane Arnold ISFSI once all spent fuel has been moved to dry storage, and would not be implemented until after the licensee provides notification to the U.S. Nuclear Regulatory Commission that all spent nuclear fuel has been transferred out of the spent fuel pool and placed within the ISFSI, which is expected to occur in 2022.
Proposed Determination | NSHC.
Name of Attorney for Licensee, Mailing Address | Steven Hamrick, Managing Attorney—Nuclear, Florida Power and Light Company, P.O. Box 14000, Juno Beach, FL 33408-0420.
NRC Project Manager, Telephone Number | Marlayna Doell, 301-415-3178.
Vistra Operations Company LLC; Comanche Peak Nuclear Power Plant, Units 1 and 2; Somervell County, TX
Docket No(s) | 50-445, 50-446.
Application date | May 11, 2021, as supplemented by letter(s) dated July 13, 2021.
ADAMS Accession No | ML21131A233, ML21194A078.
Location in Application of NSHC | Pages 14-16 of Attachment 1 of the Supplement.
Brief Description of Amendment(s) | The amendments would adopt Technical Specifications Task Force (TSTF) Traveler TSTF-505, Revision 2, “Provide Risk-Informed Extended Completion Times—RITSTF [Risk-Informed TSTF] Initiative 4b,” and would remove certain historical information. The amendments would modify the technical specification (TS) requirements related to Completion Times for Required Actions to provide the option to calculate a longer, risk-informed Completion Time. The allowance is described in a new program in TS Section 5.0, “Administrative Controls,” entitled the “Risk Informed Completion Time Program.”
Proposed Determination | NSHC.
Name of Attorney for Licensee, Mailing Address | Timothy P. Matthews, Esq., Morgan, Lewis and Bockius, 1111 Pennsylvania Avenue NW, Washington, DC 20004.
NRC Project Manager, Telephone Number | Dennis Galvin, 301-415-6256.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the table below. The safety evaluation will provide the ADAMS accession numbers for the application for amendment and the Federal Register citation for any environmental assessment. All of these items can be accessed as described in the “Obtaining Information and Submitting Comments” section of this document.

License Amendment Issuance(s)
Arizona Public Service Company, et al; Palo Verde Nuclear Generating Station, Units 1, 2, and 3; Maricopa County, AZ
Docket No(s) | 50-528, 50-529, 50-530.
Amendment Date | August 17, 2021.
ADAMS Accession No | ML21225A093.
Amendment No(s) | 216, 216, 216.
Brief Description of Amendment(s) | The amendments revised the technical specifications (TSs) to adopt Technical Specifications Task Force (TSTF) Traveler TSTF-501, “Relocate Stored Fuel Oil and Lube Oil Volume Values to Licensee Control,” Revision 1 (ADAMS Accession Nos. ML090510686 and ML100850094), for Palo Verde Nuclear Generating Station, Units 1, 2, and 3 (Palo Verde). The amendments revised Palo Verde TS 3.8.3, “Diesel Fuel Oil, Lube Oil, and Starting Air,” by removing the current stored diesel fuel oil and lube oil numerical volume requirements from the TSs and placing them in the TS Bases so that they may be modified under licensee control. The TSs are also revised such that the stored diesel fuel oil and lube oil inventory would require that a 7-day supply be available for each diesel generator at Palo Verde. Corresponding surveillance requirements and TS Bases are also revised to reflect the above changes.
Public Comments Received as to Proposed NSHC (Yes/No) | No.
Exelon FitzPatrick, LLC and Exelon Generation Company, LLC; James A FitzPatrick Nuclear Power Plant; Oswego County, NY
Docket No(s) | 50-333.
Amendment Date | August 9, 2021.
ADAMS Accession No | ML21131A127.
Amendment No(s) | 343.
Brief Description of Amendment(s) | The amendment revised the containment venting flow path as described in the FitzPatrick Technical Specification 3.6.1.3, “Primary Containment Isolation Valves (PCIVs),” Surveillance Requirement 3.6.1.3.1.
Public Comments Received as to Proposed NSHC (Yes/No) | No.
Exelon Generation Company, LLC; Clinton Power Station, Unit No. 1; DeWitt County, IL
Docket No(s) | 50-461.
Amendment Date | August 11, 2021.
ADAMS Accession No | ML21188A020.
Amendment No(s) | 239.
Brief Description of Amendment(s) | The amendment revised Technical Specification Section 5.5.13, “Primary Containment Leakage Rate Testing Program,” to allow a one-time extension to the 15-year frequency of the Clinton Power Station, Unit No. 1, containment integrated leakage rate test (ILRT or Type A test). The proposed one-time change would permit the current ILRT interval of 15 years to be extended by about 8 months.
Public Comments Received as to Proposed NSHC (Yes/No) | No.
PSEG Nuclear LLC; Hope Creek Generating Station; Salem County, NJ
Docket No(s) | 50-354.
Amendment Date | August 17, 2021.
ADAMS Accession No | ML21181A056.
Amendment No(s) | 229.
Brief Description of Amendment(s) | The amendment revised Technical Specification 2.1, “SAFETY LIMITS,” specifically, 2.1.1, “THERMAL POWER, Low Pressure or Low Flow,” and 2.1.2, “THERMAL POWER, High Pressure and High Flow,” to reduce the reactor vessel steam dome pressure value to address General Electric Nuclear Energy 10 CFR part 21 Safety Communication SC05-03, “10 CFR part 21 Reportable Condition Notification: Potential to Exceed Low Pressure Technical Specification Safety Limit,” issued on March 29, 2005, regarding the potential to violate the low pressure safety limit following a pressure regulator failure-open transient.
Public Comments Received as to Proposed NSHC (Yes/No) | No.
PSEG Nuclear LLC; Salem Nuclear Generating Station, Unit No. 2; Salem County, NJ
Docket No(s) | 50-311.
Amendment Date | August 3, 2021.
ADAMS Accession No | ML21195A062.
Amendment No(s) | 319.
Brief Description of Amendment(s) | The amendment revised a technical specification action for rod position indicators. This was a one-time change during the current operating cycle to support maintenance on the transformer supplying power to all of the Salem, Unit No. 2, rod position indicators.
Public Comments Received as to Proposed NSHC (Yes/No) | No.
R. E. Ginna Nuclear Power Plant, LLC and Exelon Generation Company, LLC; R. E. Ginna Nuclear Power Plant; Wayne County, NY
Docket No(s) | 50-244.
Amendment Date | July 28, 2021.
ADAMS Accession No | ML21175A001.
Amendment No(s) | 145.
Brief Description of Amendment(s) | The amendment revised Technical Specification (TS) 5.5.6, “Steam Generator (SG) Program,” to reflect a proposed change to the required SG tube inspection frequency, for performing SG tube inspections and plugging. This change made a one-time exception to the SG tube inspection requirements in TS Section 5.5.6.
Public Comments Received as to Proposed NSHC (Yes/No) | No.
Southern Nuclear Operating Company, Inc.; Edwin I. Hatch Nuclear Plant, Units 1 and 2; Appling County, GA; Southern Nuclear Operating Company, Inc.; Joseph M. Farley Nuclear Plant, Units 1 and 2; Houston County, AL; Southern Nuclear Operating Company, Inc.; Vogtle Electric Generating Plant, Units 1 and 2; Burke County, GA
Docket No(s) | 50-321, 50-348, 50-364, 50-366, 50-424, 50-425.
Amendment Date | July 30, 2021.
ADAMS Accession No | ML21167A315.
Amendment No(s) | Farley—234 (Unit 1) and 231 (Unit 2); Hatch—309 (Unit 1) and 255 (Unit 2); Vogtle—205 (Unit 1), and 188 (Unit 2).
Brief Description of Amendment(s) | The amendments revised certain Surveillance Requirements (SRs) in the technical specifications (TSs) by adding an exception to the SR for automatic valves or dampers that are locked, sealed, or otherwise secured in the actuated position. The amendments are based on Technical Specifications Task Force (TSTF) Traveler TSTF-541, Revision 2, “Add Exceptions to Surveillance Requirements for Valves and Dampers Locked in the Actuated Position,” dated August 28, 2019 (ADAMS Accession No. ML19240A315). The NRC approved TSTF-541, Revision 2, by letter dated December 10, 2019.
Public Comments Received as to Proposed NSHC (Yes/No) | No.
Southern Nuclear Operating Company, Inc.; Vogtle Electric Generating Plant, Units 1 and 2; Burke County, GA
Docket No(s) | 50-424, 50-425.
Amendment Date | July 30, 2021.
ADAMS Accession No | ML21068A109 (Package).
Amendment No(s) | 206,189.
Brief Description of Amendment(s) | The amendments consisted of changes to the license and technical specifications (TSs). The amendments also revised the licensing basis as described in the Vogtle Final Safety Analysis Report to allow the use of a risk-informed approach to the resolution of issues discussed in Generic Safety Issue (GSI)-191, “Assessment of Debris Accumulation on Pressurized-Water Reactor Sump Performance.” The TS changes followed the model application in Technical Specification Task Force (TSTF)-567, Revision 1, “Add Containment Sump TS to Address GSI-191 Issues.” In addition, the amendments added a new TS 3.6.7, “Containment Sump,” and added an action to address the condition of the containment sump made inoperable due to containment accident generated and transported debris exceeding the analyzed limits.
Public Comments Received as to Proposed NSHC (Yes/No) | No.
Tennessee Valley Authority; Browns Ferry Nuclear Plant, Units 1, 2, and 3; Limestone County, AL
Docket No(s) | 50-259, 50-260, 50-296.
Amendment Date | July 27, 2021.
ADAMS Accession No | ML21173A177.
Amendment No(s) | 317, 340, and 300.
Brief Description of Amendment(s) | The amendments allowed for the voluntary adoption of the requirements of 10 CFR 50.69, “Risk-informed categorization and treatment of structures, systems and components for nuclear power reactors.”
Public Comments Received as to Proposed NSHC (Yes/No) | No.
Tennessee Valley Authority; Watts Bar Nuclear Plant, Unit 1; Rhea County, TN
Docket No(s) | 50-390.
Amendment Date | July 26, 2021.
ADAMS Accession No | ML21153A049.
Amendment No(s) | 147.
Brief Description of Amendment(s) | The amendment revised Watts Bar Nuclear Plant, Unit 1, Technical Specification (TS) 5.7.2.12, “Steam Generator (SG) Program,” and TS 5.9.9, “Steam Generator Tube Inspection Report,” to reflect a change to the SG tube inspection frequency, and changes due to the adoption of Technical Specifications Task Force (TSTF) Technical Change Traveler TSTF-510, Revision 2, “Revision to Steam Generator Program Inspection Frequencies and Tube Sample Selection.”
Public Comments Received as to Proposed NSHC (Yes/No) | No.

IV. Previously Published Notice of Consideration of Issuance of Amendments to Facility Operating Licenses and Combined Licenses, Proposed No Significant Hazards Consideration Determination, and Opportunity for a Hearing

The following notice was previously published as separate individual notice. It was published as an individual notice either because time did not allow the Commission to wait for this monthly notice or because the action involved exigent circumstances. It is repeated here because the monthly notice lists all amendments issued or proposed to be issued involving NSHC.

For details, including the applicable notice period, see the individual notice in the Federal Register on the day and page cited.

License Amendment Request(s)—Repeat of Individual Federal Register Notice
Virginia Electric and Power Company, Dominion Nuclear Company; North Anna Power Station, Units 1 and 2; Louisa County, VA
Docket No(s) | 50-338, 50-339.
Application Date | May 6, 2021.
ADAMS Accession No | ML21126A314.
Brief Description of Amendment(s) | The proposed amendment would add a new requirement to isolate Primary Grade water from the reactor coolant system within 1 hour following a reactor shutdown from Mode 2. Additionally, it would make an editorial change to Technical Specification 5.6.5, “Coe Operating Limits Report (COLR).”
Date & Cite of Federal Register Individual Notice | July 13, 2021 (86 FR 36785).
Expiration Dates for Public Comments & Hearing Requests | August 12, 2021 (Comments) and September 13, 2021 (Hearing).

Dated: August 27, 2021.
For the Nuclear Regulatory Commission.
Bo M. Pham,
Director, Division of Operating Reactor Licensing, Office of Nuclear Reactor Regulation.

[FR Doc. 2021-18934 Filed 9-3-21; 8:45 am]

BILLING CODE 7590-01-P